NATIONAL AERONAUTICS AND SPACE ADMINISTRATION

[Notice: 13-124]

NASA Asteroid Initiative Idea Synthesis Workshop

AGENCY: National Aeronautics and Space Administration.

ACTION: Notice of Continuation of public conference to examine ideas in response to the recent RFI for the agency's Asteroid Initiative.

SUMMARY: The National Aeronautics and Space Administration announces that the agency will resume the NASA Asteroid Initiative Idea Synthesis public conference, which was postponed October 1, 2013, to provide a status on the Agency's Asteroid Initiative planning and to enable feedback and discussion from the global community and the public.

DATES: Wednesday Nov. 20, 2013, (7 p.m. CST)—Friday, Nov. 22, 2013, (12 p.m. CST).

ADDRESSES: Lunar and Planetary Institute, 3600 Bay Area Boulevard, Houston, TX 77058.

FOR FURTHER INFORMATION CONTACT: Michele Gates, Senior Technical Advisor, NASA Human Exploration and Operations Mission Directorate: 202-358-1048.

SUPPLEMENTARY INFORMATION: • The purpose of this conference is to publicly examine and synthesize highly rated responses to the NASA's Asteroid Initiative RFI. Findings will be developed and provided as inputs to NASA's planning activities.

• This conference will be streamed live online. Viewing and interactive participation options will be posted at http://www.nasa.gov/asteroidworkshop prior to the event.

• Due to limited seating capacity, onsite attendance is by invitation only. Invitations will be issued starting Monday, October 28, 2013.

Registration

• NASA will invite many of the RFI submitters to attend the workshop to share their ideas. Invited presenters will have the option to attend onsite, or present their ideas remotely via online virtual meeting capabilities. Presenters must R.S.V.P. through the registration form provided to them in the invitation email.

• Anyone who is not invited to present at the workshop will be able to participate virtually through live streaming forums dedicated to the workshop plenary sessions and focused track sessions.

Check In

• Workshop check-in will open at on Wednesday, November 20, 2013, 6 p.m. CST.

• All attendees must enter through the LPI main doors (3600 Bay Area Blvd., Houston, Texas 77058).

Media

News media interested in attending are required to pre-register and should contact Sarah Becky Ramsey at 202-358-1694 or Rachel Kraft at 202-358-1100 for additional information.

Security

Event attendees will receive a workshop badge upon check in. All participates are asked to keep this badge on them at all times while in the facility.

Driving Directions

Driving directions and parking procedures will be provided to attendees prior to the workshop.

Local Area information including additional directions and maps can be found here: http://www.hou.usra.edu/meetings/local_info/.

Public Transportation

For Houston Metro information, please visit their Web site at http://www.ridemetro.org/SchedulesMaps/Default.aspx.

William Gerstenmaier,
Associate Administrator, Human Exploration & Operations Mission Directorate.

[FR Doc. 2013-25324 Filed 10-25-13; 8:45 am]

BILLING CODE 7510-13-P